DEPARTMENT OF VETERANS AFFAIRS

Advisory Committee on the Readjustment of Veterans, Notice of Meeting

The Department of Veterans Affairs (VA) gives notice under the Federal Advisory Committee Act, 5 U.S.C. ch. 10., that the Advisory Committee on the Readjustment of Veterans will conduct in-person meeting sessions in Tampa, Florida on February 7, 2024-February 9, 2024.

The sessions will begin, and end as follows in the noted locations:

Dates | Times | Locations | Open session
February 7, 2024 | 8 a.m. to 5 p.m. eastern standard time (EST) | Tampa Vet Center, 9206 King Palm Drive, Tampa, FL 33619 | No.
February 8, 2024 | 8 a.m. to 12 p.m. EST | Tampa VA Medical Center (James A. Haley), 13000 Bruce B. Downs Blvd., Tampa, FL 33612-4745 | No.
February 8, 2024 | 1 p.m. to 5 p.m. EST | Tampa VA Medical Center (James A. Haley), 13000 Bruce B. Downs Blvd., Tampa, FL 33612-4745 | Yes.
February 9, 2024 | 8 a.m. to 12 p.m. EST | Tampa VA Medical Center (James A. Haley), 13000 Bruce B. Downs Blvd., Tampa, FL 33612-4745 | Yes.

The meeting sessions are open to the public, except when the Committee is conducting tours of VA facilities. Tours of VA facilities are closed to protect Veterans' privacy and personal information, in accordance with 5 U.S.C 552b(c)(6).

The purpose of the Committee is to advise the VA regarding the provision by VA of benefits and services to assist Veterans in the readjustment to civilian life. In carrying out this duty, the Committee shall take into account the needs of Veterans who served in combat theaters of operation. The Committee assembles, reviews, and assesses information relating to the needs of Veterans readjusting to civilian life and the effectiveness of VA services in assisting Veterans in that readjustment.

The Committee, comprised of 14 subject matter experts, advises the Secretary, through the VA Readjustment Counseling Service, on the provision by VA of benefits and services to assist Veterans in the readjustment to civilian life. In carrying out this duty, the Committee assembles, reviews, and assesses information relating to the needs of Veterans readjusting to civilian life and the effectiveness of VA services in assisting Veterans in that readjustment, specifically taking into account the needs of Veterans who served in combat theaters of operation.

On February 7, 2024, the agenda will include a site visit of the Tampa Vet Center, 9206 King Palm Drive, Tampa, FL 33619, from 8 a.m.-5 p.m. EST. The meeting session is closed to the public in accordance with 5 U.S.C. 552b (c)(6). Exemption 6 permits the Committee to close a meeting that is likely to disclose information of a personal nature where disclosure would constitute a clearly unwarranted invasion of personal privacy, which will most likely be the case throughout this field visit.

On February 8, 2024, the Committee will convene in a closed session at the Tampa VA Medical Center (James A. Haley) 13000 Bruce B. Downs Blvd., Tampa, FL 33612-4745, from 8 a.m. to 12 p.m. EST as it tours the VA facility. This portion of the meeting will be closed to the public in accordance with 5 U.S.C. 552b (c) (6). Exemption 6 permits the Committee to close a meeting that is likely to disclose information of a personal nature where disclosure would constitute a clearly unwarranted invasion of personal privacy, which will most likely be the case throughout this field visit. From 1 p.m. to to 5 p.m. EST, the meeting will reconvene in an open session at the Tampa VA Medical Center (James A. Haley) 13000 Bruce B. Downs Blvd., Tampa, FL 33612-4745. During this session, the agenda will include a briefings and updates.

On February 9, 2024, the session is open to the public and will be held at the Tampa VA Medical Center (James A. Haley) 13000 Bruce B. Downs Blvd., Tampa, FL 33612-4745. The agenda will include presentations and updates. Additionally, the Committee will be solely focused on writing the 24th Annual Report, which will be accomplished through breakout groups and open full committee discussion.

No time will be allotted for receiving oral comments from the public; however, the committee will accept written comments from interested parties on issues outlined in the meeting agenda or other issues regarding the readjustment of Veterans. Parties wishing to submit written questions or comments many send them to Mr. Richard Barbato, via email at VHA RCS Strategy & Analysis VHARCSStratAnalysis@va.gov or by mail at Department of Veterans Affairs, Readjustment Counseling Service (10RCS), 810 Vermont Avenue, Washington, DC 20420.

Any member of the public seeking additional information should contact Mr. Barbato at the email addressed noted above.

Dated: February 11, 2024.
Jelessa M. Burney,
Federal Advisory Committee Management Officer.

[FR Doc. 2024-00779 Filed 1-16-24; 8:45 am]

BILLING CODE P